DEPARTMENT OF STATE

[Notice Number 3589]

Shipping Coordinating Committee, Subcommittee on Safety of Life at Sea; Notice of Meeting

The Shipping Coordinating Committee (SHC) will conduct an open meeting at 10 a.m. on Wednesday, April 11, 2001, in room 4618 at U.S. Coast Guard Headquarters, 2100 Second Street, SW., Washington, DC.

The purpose of this meeting will be to discuss the outcome of the Forty-fifth Session of the International Maritime Organization's Subcommittee on Fire Protection, held January 8-12, 2001. In addition, preparations for the next session will also be discussed.

The meeting will focus on proposed amendments to the 1974 Safety of Life at Sea (SOLAS) Convention for the fire safety of commercial vessels. Specific discussion areas include:

—Recommendations on evacuation analysis for passenger vessels

—Guidelines on alternative design and arrangements for fire safety

—Smoke control and ventilation;

—Unified interpretations to SOLAS chapter II-2 and related fire test procedures

—Fire retardant materials for the construction of lifeboats

—Fire-fighting systems in machinery and other spaces

Members of the public may attend this meeting up to the seating capacity of the room. Interested persons may seek information by writing: Chief, Office of Design and Engineering Standards, Commandant (G-MSE-4), U.S. Coast Guard Headquarters, 2100 Second Street, SW., Washington, DC 20593-0001, by calling: LCDR Kevin Kiefer at (202) 267-1444, or by visiting the following World Wide Website: http://www.uscg.mil/hq/g-m/mse4/stdimofp.htm.

Stephen Miller,
Executive Secretary, Shipping Coordinating Committee, Department of State.

[FR Doc. 01-7157 Filed 3-21-01; 8:45 am]

BILLING CODE 4710-07-U